DEPARTMENT OF TRANSPORTATION

Federal Aviation Administration

14 CFR Part 39

[Docket No. FAA-2024-0457; Project Identifier MCAI-2023-01207-T; Amendment 39-22790; AD 2024-14-09]

RIN 2120-AA64

Airworthiness Directives; Dassault Aviation Airplanes

AGENCY: Federal Aviation Administration (FAA), DOT.

ACTION: Final rule.

SUMMARY: The FAA is superseding Airworthiness Directive (AD) 2022-02-10, which applied to certain Dassault Aviation Model FALCON 7X, FALCON 900EX, and FALCON 2000EX airplanes. AD 2022-02-10 required replacement of certain titanium screws. Since the FAA issued AD 2022-02-10, affected parts have been found in other areas of certain Falcon 7X airplanes as well as in additional Falcon 7X airplanes. This AD continues to require the actions in AD 2022-02-10, adds other locations for screw replacement, and revises the applicability, as specified in a European Union Aviation Safety Agency (EASA) AD, which is incorporated by reference. The FAA is issuing this AD to address the unsafe condition on these products.

DATES: This AD is effective October 15, 2024.

The Director of the Federal Register approved the incorporation by reference of certain publications listed in this AD as of October 15, 2024.

ADDRESSES:

AD Docket: You may examine the AD docket at regulations.gov under Docket No. FAA-2024-0457; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• For Dassault Aviation material identified in this AD, contact Dassault Falcon Jet Corporation, Teterboro Airport, P.O. Box 2000, South Hackensack, NJ 07606; telephone 201-440-6700; website dassaultfalcon.com.

• You may view this material at the FAA, Airworthiness Products Section, Operational Safety Branch, 2200 South 216th Street, Des Moines, WA. For information on the availability of this material at the FAA, call 206-231-3195. It is also available in the AD docket at regulations.gov under Docket No. FAA-2024-0457.

FOR FURTHER INFORMATION CONTACT: Tom Rodriguez, Aviation Safety Engineer, FAA, 1600 Stewart Avenue, Suite 410, Westbury, NY 11590; telephone: 206-231-3226; email: tom.rodriguez@faa.gov.

SUPPLEMENTARY INFORMATION:

Background

The FAA issued a notice of proposed rulemaking (NPRM) to amend 14 CFR part 39 to supersede AD 2022-02-10, Amendment 39-21907 (87 FR 7025, February 8, 2022) (AD 2022-02-10). AD 2022-02-10 applied to certain Dassault Aviation Model FALCON 7X, FALCON 900EX, and FALCON 2000EX airplanes. AD 2022-02-10 was prompted by MCAI originated by EASA, which is the Technical Agent for the Member States of the European Union. EASA issued AD 2021-0047, dated February 16, 2021 (EASA AD 2021-0047), to correct an unsafe condition. AD 2022-02-10 required replacement of certain titanium screws. The FAA issued AD 2022-02-10 to address failure of an affected screw installed in a critical location, possibly resulting in reduced structural integrity of the airplane.

The NPRM published in the Federal Register on March 6, 2024 (89 FR 15965). The NPRM was prompted by EASA AD 2023-0207, dated November 21, 2023 (also referred to as the MCAI). The MCAI states that since EASA issued AD 2021-0047, it was determined that affected parts have been installed in production in additional areas of certain Model FALCON 7X airplanes already included in the applicability of EASA AD 2021-0047. Additionally, it was determined that additional Model FALCON 7X airplanes were not included in the applicability of EASA AD 2021-0047.

In the NPRM, the FAA proposed to continue to require the actions in AD 2022-02-10, add other locations for screw replacement, and revise the applicability, as specified in EASA AD 2023-0207. The FAA is issuing this AD to address the unsafe condition on these products.

You may examine the MCAI in the AD docket at regulations.gov under Docket No. FAA-2024-0457.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

EASA AD 2023-0207 specifies procedures for replacing certain Decomatic titanium screws (including an inspection of the bore dimension and corrective actions (oversizing or repair)). The EASA AD also restricts installation of certain Decomatic titanium screws.

Dassault Service Bulletin 7X-467, Revision 2, dated March 20, 2023, specifies procedures for additional work.

This material is reasonably available because the interested parties have access to it through their normal course of business or by the means identified in the ADDRESSES section.

Costs of Compliance

The FAA estimates that this AD affects 44 airplanes of U.S. registry. The FAA estimates the following costs to comply with this AD:

Estimated Costs for Required Actions
Action | Labor cost | Parts cost | Cost per product | Cost on U.S. operators
Retained actions from AD 2022-02-10 | Up to 90 work-hours × $85 per hour = $7,650 | $0 | Up to $7,650 | Up to $336,600.
New proposed requirements | Up to 110 work-hours × $85 per hour = $9,350 | 0 | Up to $9,350 | Up to $411,400.

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-02-10, Amendment 39-21907 (87 FR 7025, February 8, 2022); and

b. Adding the following new AD:

2024-14-09 Dassault Aviation: Amendment 39-22790; Docket No. FAA-2024-0457; Project Identifier MCAI-2023-01207-T.

(a) Effective Date

This airworthiness directive (AD) is effective October 15, 2024.

(b) Affected ADs

This AD replaces AD 2022-02-10, Amendment 39-21907 (87 FR 7025, February 8, 2022) (AD 2022-02-10).

(c) Applicability

This AD applies to Dassault Aviation airplanes identified in paragraphs (c)(1) through (3) of this AD, certificated in any category, as identified in European Union Aviation Safety Agency (EASA) AD 2023-0207, dated November 21, 2023 (EASA AD 2023-0207).

(1) Model FALCON 7X airplanes.

(2) Model FALCON 900EX airplanes.

(3) Model FALCON 2000EX airplanes.

(d) Subject

Air Transport Association (ATA) of America Code 51, Standard Practices/Structures.

(e) Unsafe Condition

This AD was prompted by a report of an improper heat treatment process applied during the manufacturing of certain Decomatic titanium screws, and by the determination that affected parts in additional areas on certain airplanes, as well as additional airplanes, are subject to the unsafe condition. The FAA is issuing this AD to address failure of an affected screw installed in a critical location, possibly resulting in reduced structural integrity of the airplane.

(f) Compliance

Comply with this AD within the compliance times specified, unless already done.

(g) Requirements

Except as specified in paragraph (h) of this AD: Comply with all required actions and compliance times specified in, and in accordance with, EASA AD 2023-0207.

(h) Exceptions to EASA AD 2023-0207

(1) Where EASA AD 2023-0207 refers to its effective date, this AD requires using the effective date of this AD.

(2) This AD does not adopt the “Remarks” section of EASA AD 2023-0207.

(3) Where the “Ref Publications” section of EASA AD 2023-0207 specifies “Dassault SB 7X-467 original issue dated 16 November 2020, Rev. 1 dated 12 December 2022 or Rev. 2 dated 20 March 2023,” this AD requires replacing that text with “Dassault Service Bulletin 7X-467, Revision 2, dated March 20, 2023.”

(i) Credit for Previous Actions

For Model FALCON 7X airplanes: This paragraph provides credit for the actions specified in paragraph (g) of this AD, if those actions were performed before the effective date of this AD using Dassault Service Bulletin 7X-467, dated November 16, 2020, provided the additional work specified in Dassault Service Bulletin 7X-467, Revision 2, dated March 20, 2023, is accomplished within the applicable compliance time specified in EASA AD 2023-0207.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (k)(1) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Dassault Aviation's EASA Design Organization Approval (DOA). If approved by the DOA, the approval must include the DOA-authorized signature.

(k) Additional Information

(1) For more information about this AD, contact Tom Rodriguez, Aviation Safety Engineer, FAA, 1600 Stewart Avenue, Suite 410, Westbury, NY 11590; telephone: 206-231-3226; email: tom.rodriguez@faa.gov.

(2) Material identified in this AD that is not incorporated by reference is available at the address specified in paragraph (l)(4) of this AD.

(l) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2023-0207, dated November 21, 2023.

(ii) Dassault Service Bulletin 7X-467, Revision 2, dated March 20, 2023.

(3) For EASA AD 2023-0207, contact EASA, Konrad-Adenauer-Ufer 3, 50668 Cologne, Germany; telephone +49 221 8999 000; email ADs@easa.europa.eu; website easa.europa.eu. You may find this EASA AD on the EASA website at ad.easa.europa.eu.

(4) For Dassault Aviation material identified in this AD, contact Dassault Falcon Jet Corporation, Teterboro Airport, P.O. Box 2000, South Hackensack, NJ 07606; telephone 201-440-6700; website dassaultfalcon.com.

(5) You may view this material at the FAA, Airworthiness Products Section, Operational Safety Branch, 2200 South 216th Street, Des Moines, WA. For information on the availability of this material at the FAA, call 206-231-3195.

(6) You may view this material at the National Archives and Records Administration (NARA). For information on the availability of this material at NARA, visit www.archives.gov/federal-register/cfr/ibr-locations or email fr.inspection@nara.gov.

Issued on September 3, 2024.
Victor Wicklund,
Deputy Director, Compliance & Airworthiness Division, Aircraft Certification Service.

[FR Doc. 2024-20163 Filed 9-6-24; 8:45 am]

BILLING CODE 4910-13-P